DEPARTMENT OF TRANSPORTATION

Surface Transportation Board

[Docket No. FD 35886]

Illinois Railway, LLC—Lease and Operation Exemption—Rail Line of Peru Land Acquisition 2, LLC

Illinois Railway, LLC (IR), a Class III rail carrier, has filed a verified notice of exemption under 49 CFR 1150.41 to lease from Peru Land Acquisition 2, LLC (PLA2), and to operate approximately 3.5 miles of rail line extending from a connection to IR on its western end, to the end of the track on its eastern end west of Illinois Route 251, all near Peru, in Bureau and LaSalle Counties, Ill. (the Peru City Track or the line).¹

¹ According to IR, there are no mileposts associated with the line.

This transaction is related to a concurrently filed verified notice of exemption in Docket No. FD 35885, Peru Land Acquisition 2, LLC—Acquisition Exemption—Rail Line of The City of Peru, Ill., in which PLA2 seeks Board approval to acquire the Peru City Track from the City of Peru, Ill., the line's current owner.

IR states that it currently operates over the Peru City Track under an arrangement with the City of Peru and that the proposed transaction will not result in any change in operations or service to customers.

IR states that the lease and operation agreement does not include any provision that would limit IR's future interchange of traffic on the line with a third-party connecting carrier.

IR certifies that its projected annual revenues as a result of this transaction will not result in IR's becoming a Class II or Class I rail carrier. IR further certified on December 2, 2014, that, pursuant to 49 CFR 1150.42(e), on that date it: (1) Posted notice of its intent to undertake the proposed transaction at the workplaces of IR employees on the Peru City Track; and (2) served a copy of the notice on the national office of the labor union representing IR employees on the Peru City Track.

IR states that it intends to consummate the proposed lease transaction on or after February 3, 2015. The transaction may be consummated on or after January 31, 2015, the effective date of the exemption.²

² Typically an exemption of this type would be effective 30 days after the exemption was filed (here, January 10, 2015). However, under 49 CFR 1150.42(e), the exemption cannot become effective until 60 days after notice has been provided to the employees on the line and the national offices of their labor unions and certification has been provided to the Board, all of which occurred here on December 2, 2014.

If the verified notice contains false or misleading information, the exemption is void ab initio. Petitions to revoke the exemption under 49 U.S.C. 10502(d) may be filed at any time. The filing of a petition to revoke will not automatically stay the effectiveness of the exemption. Petitions for stay must be filed no later than January 23, 2015 (at least seven days before the exemption becomes effective).

An original and ten copies of all pleadings, referring to Docket No. FD 35886, must be filed with the Surface Transportation Board, 395 E Street SW., Washington, DC 20423-0001. In addition, one copy of each pleading must be served on Michael J. Barron, Jr., Fletcher & Sippel LLC, 29 North Wacker Drive, Suite 920, Chicago, IL 60606.

Board decisions and notices are available on our Web site at WWW.STB.DOT.GOV.

Decided: December 19, 2014.
By the Board, Rachel D. Campbell, Director, Office of Proceedings.
Raina S. White,
Clearance Clerk.

[FR Doc. 2014-30203 Filed 12-23-14; 8:45 am]

BILLING CODE 4915-01-P